NATIONAL FOUNDATION ON THE ARTS AND THE HUMANITIES

National Endowment for the Arts; Arts Advisory Panel

Pursuant to Section 10(a)(2) of the Federal Advisory Committee Act (Pub. L. 92-463), as amended, notice is hereby given that two meetings of the Arts Advisory Panel to the National Council on the Arts will be held as follows (ending times are approximate):

Visual Arts/Rosa Parks Sculpture Design (application review): March 9, 2009 in the North Meeting Room, Capitol Visitor Center, U.S. Capitol, Washington, DC. This meeting, from 12:30 p.m. to 5 p.m., will be closed.

International (application review): March 4, 2009 by teleconference. This meeting, from 2 p.m. to 4:10 p.m., will be closed.

The closed portions of meetings are for the purpose of Panel review, discussion, evaluation, and recommendations on financial assistance under the National Foundation on the Arts and the Humanities Act of 1965, as amended, including information given in confidence to the agency. In accordance with the determination of the Chairman of February 28, 2008, these sessions will be closed to the public pursuant to subsection (c)(6) of section 552b of Title 5, United States Code.

Further information with reference to these meetings can be obtained from Ms. Kathy Plowitz-Worden, Office of Guidelines & Panel Operations, National Endowment for the Arts, Washington, DC 20506, or call 202/682-5691.

Dated: February 9, 2009.
Kathy Plowitz-Worden,
Panel Coordinator, Panel Operations, National Endowment for the Arts.

[FR Doc. E9-2998 Filed 2-11-09; 8:45 am]

BILLING CODE 7537-01-P